SOCIAL SECURITY ADMINISTRATION

[Docket No: SSA-2015-0058]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget,

Attn: Desk Officer for SSA,

Fax: 202-395-6974,

Email address: OIRA_Submission@omb.eop.gov.

(SSA)

Social Security Administration, OLCA,

Attn: Reports Clearance Director,

3100 West High Rise,

6401 Security Blvd.,

Baltimore, MD 21235,

Fax: 410-966-2830,

Email address: OR.Reports.Clearance@ssa.gov.

Or you may submit your comments online through www.regulations.gov, referencing Docket ID Number [SSA-2015-0058].

I. The information collections below are pending at SSA. SSA will submit them to OMB within 60 days from the date of this notice. To be sure we consider your comments, we must receive them no later than December 14, 2015. Individuals can obtain copies of the collection instruments by writing to the above email address.

Promoting Readiness of Minors in SSI (PROMISE) Evaluation—0960-0799

Background

The Promoting Readiness of Minors in SSI (PROMISE) demonstration pursues positive outcomes for children with disabilities who receive Supplemental Security Income (SSI) and their families by reducing dependency on SSI. The Department of Education (ED) awarded six cooperative agreements to states to improve the provision and coordination of services and support for children with disabilities who receive SSI and their families to achieve improved education and employment outcomes. ED awarded PROMISE funds to five single-state projects, and to one six-state consortium.¹ With support from ED, the Department of Labor (DOL), and the Department of Health and Human Services (HHS), SSA is evaluating the six PROMISE projects. SSA contracted with Mathematica Policy Research to conduct the evaluation.

¹ The six-state consortium project goes by the name Achieving Success by Promoting Readiness for Education and Employment (ASPIRE) rather than by PROMISE.

Under PROMISE, targeted outcomes for youth include an enhanced sense of self-determination; achievement of secondary and post-secondary educational credentials; an attainment of early work experiences culminating with competitive employment in an integrated setting; and long-term reduction in reliance on SSI. Outcomes of interest for families include heightened expectations for and support of the long-term self-sufficiency of their youth; parent or guardian attainment of education and training credentials; and increases in earnings and total income. To achieve these outcomes, we expect the PROMISE projects to make better use of existing resources by improving service coordination among multiple state and local agencies and programs.

ED, SSA, DOL, and HHS intend the PROMISE projects to address key limitations in the existing service system for youth with disabilities. By intervening early in the lives of these young people, at ages 14-16, the projects engage the youth and their families well before critical decisions regarding the age 18 redetermination are upon them. We expect the required partnerships among the various state and Federal agencies that serve youth with disabilities to result in improved integration of services and fewer dropped handoffs as youth move from one agency to another. By requiring the programs to engage and serve families and provide youth with paid work experiences, the initiative is mandating the adoption of critical best practices in promoting the independence of youth with disabilities.

Project Description

SSA is requesting clearance for the collection of data needed to implement and evaluate PROMISE. The evaluation provides empirical evidence on the impact of the intervention for youth and their families in several critical areas, including: (1) Improved educational attainment; (2) increased employment skills, experience, and earnings; and (3) long-term reduction in use of public benefits. We base the PROMISE evaluation on a rigorous design that entails the random assignment of approximately 2,000 youth in each of the six projects to treatment or control groups (12,000 total). The PROMISE projects provide enhanced services for youth in the treatment groups; whereas youth in the control groups are eligible only for those services already available in their communities independent of the interventions.

The evaluation assesses the effect of PROMISE services on educational attainment, employment, earnings, and reduced receipt of disability payments. The three components of this evaluation include:

• The process analysis, which documents program models, assesses the relationships among the partner organizations, documents whether the grantees implemented the programs as planned, identifies features of the programs that may account for their impacts on youth and families, and identifies lessons for future programs with similar objectives.

• The impact analysis, which determines whether youth and families in the treatment groups receive more services than their counterparts in the control groups. It also determines whether treatment group members have better results than control group members with respect to the targeted outcomes noted above.

• The cost-benefit analysis, which assesses whether the benefits of PROMISE, including increases in employment and reductions in benefit receipt, are large enough to justify its costs. We conduct this assessment from a range of perspectives, including those of the participants, state and Federal governments, SSA, and society as a whole.

SSA planned several data collection efforts for the evaluation. These include: (1) Follow-up interviews with youth and their parent or guardian 18 months and 5 years after enrollment; (2) phone and in-person interviews with local program administrators, program supervisors, and service delivery staff at two points in time over the course of the demonstration; (3) two rounds of focus groups with participating youth in the treatment group; (4) two rounds of focus groups with parents or guardians of participating youth; (5) staff activity logs which provide data on aspects of service delivery; and (6) collection of administrative data.

At this time, SSA requests clearance for the staff activity logs. SSA will request clearance for the 5-year survey interviews in a future submission. The respondents are the administrative and direct service staff, as well as some subcontractors whose primary roles with their organizations involve PROMISE service delivery.

Type of Request: Revision of an OMB-approved information collection.

Time Burden on Respondents

2015: Interviews and Focus Group Discussions, and 18-Month Survey Interviews
Modality of completion | Number of respondents | Frequency of response | Average burden per response (minutes) | Estimated total annual burden (hours)
Staff Interviews with Administrators or Directors | 24 | 1 | 66 | 26
Staff Interviews with PROMISE Project Staff | 48 | 1 | 66 | 53
Youth Focus Groups—Non-participants | 20 | 1 | 5 | 8
Youth Focus Groups—Participants | 100 | 1 | 100 | 33
Parents or Guardian Focus Groups—Non-participants | 100 | 1 | 5 | 8
Parents or Guardian Focus Groups—Participants | 20 | 1 | 100 | 33
Totals | 312 |  |  | 161

2015: Interviews and Focus Group Discussions, and 18-Month Survey Interviews
Modality of completion | Number of respondents | Frequency of response | Average burden per response (minutes) | Estimated total annual burden (hours)
Staff Interviews with Administrators or Directors | 51 | 1 | 66 | 56
Staff Interviews with PROMISE Project Staff | 97 | 1 | 66 | 107
Youth Focus Groups—Non-participants | 220 | 1 | 5 | 18
Youth Focus Groups—Participants | 60 | 1 | 100 | 100
Parents or Guardian Focus Groups—Non-participants | 220 | 1 | 5 | 18
Parents or Guardian Focus Groups—Participants | 60 | 1 | 100 | 100
18-Month Survey Interviews—Parent | 850 | 1 | 41 | 595
18-Month Survey Interviews—Youth | 850 | 1 | 30 | 425
Totals | 2,408 |  |  | 1,405

2016: Interviews and Focus Group Discussions, Staff Activity Logs, and 18-Month Survey Interviews
Modality of completion | Number of respondents | Frequency of response | Average burden per response (minutes) | Estimated total annual burden (hours)
Staff Interviews with Administrators or Directors | 75 | 1 | 66 | 83
Staff Interviews with PROMISE Project Staff | 145 | 1 | 66 | 160
Activity Logs for Administrators or Directors | 45 | 14 | 5 | 52
Activity Logs for PROMISE Project Staff | 135 | 14 | 5 | 157
Youth Focus Groups—Non-participants | 320 | 1 | 5 | 27
Youth Focus Groups—Participants | 80 | 1 | 100 | 133
Parents or Guardian Focus Groups—Non-participants | 320 | 1 | 5 | 27
Parents or Guardian Focus Groups—Participants | 80 | 1 | 100 | 133
18-Month Survey Interviews—Parent | 5,100 | 1 | 41 | 3,485
18-Month Survey Interviews—Youth | 5,100 | 1 | 30 | 2,550
Totals | 11,400 |  |  | 6,807

2017: 18-Month Survey Interviews
Modality of completion | Number of respondents | Frequency of response | Average burden per response (minutes) | Estimated total annual burden (hours)
18-Month Survey Interviews—Parent | 4,250 | 1 | 41 | 2,904
18-Month Survey Interviews—Youth | 4,250 | 1 | 30 | 2,125
Totals | 8,500 |  |  | 5,029

Grand Total
Modality of completion | Number of respondents | Frequency of response | Average burden per response (minutes) | Estimated total annual burden (hours)
Grand Total | 22,620 |  |  | 13,402

Cost Burden for Respondents

2014: Annual Cost to Respondents
Respondent type | Number of respondents | Frequency of response | Average burden per response (minutes) | Median hourly wage rate (dollars) | Total respondent cost (dollars)
Parent or Guardian Focus Group—Non-Participants | 100 | 1 | 5 | $7.38 | $61.00
Parent or Guardian Focus Group—Participants | 20 | 1 | 100 | 7.38 | 246.00
Total | 120 |  |  |  | 307.00

2015: Annual Cost to Respondents
Respondent type | Number of respondents | Frequency of response | Average burden per response (minutes) | Median hourly wage rate (dollars) | Total respondent cost (dollars)
Parent or Guardian Focus Group—Non-Participants | 220 | 1 | 5 | $7.38 | $135.00
Parent or Guardian Focus Group—Participants | 60 | 1 | 100 | 7.38 | 738.00
Total | 280 |  |  |  | 873.00

2016: Annual Cost to Respondents
Respondent type | Number of respondents | Frequency of response | Average burden per response (minutes) | Median hourly wage rate (dollars) | Total respondent cost (dollars)
Parent or Guardian Focus Group—Non-Participants | 320 | 1 | 5 | $7.38 | $196.00
Parent or Guardian Focus Group—Participants | 80 | 1 | 100 | 7.38 | 984.00
Total | 400 |  |  |  | 1,180.00

Grand Total
Respondent type | Number of respondents | Frequency of response | Average burden per response (minutes) | Median hourly wage rate (dollars) | Total respondent cost (dollars)
Grand Total | 800 |  |  |  | $2,360.00

II. SSA submitted the information collections below to OMB for clearance. Your comments regarding the information collections would be most useful if OMB and SSA receive them 30 days from the date of this publication. To be sure we consider your comments, we must receive them no later than November 16, 2015. Individuals can obtain copies of the OMB clearance packages by writing to OR.Reports.Clearance@ssa.gov.

Important Information About Your Appeal, Waiver Rights, and Repayment Options—20 CFR 404.502-521—0960-0779. When SSA accidentally overpays beneficiaries, the agency informs them of the following rights: (1) The right to reconsideration of the overpayment determination; (2) the right to request a waiver of recovery and the automatic scheduling of a personal conference if SSA cannot approve a request for waiver; and (3) the availability of a different rate of withholding when SSA proposes the full withholding rate. SSA uses Form SSA-3105, Important Information About Your Appeal, Waiver Rights, and Repayment Options, to explain these rights to overpaid individuals and allow them to notify SSA of their decision(s) regarding these rights. The respondents are overpaid claimants requesting a waiver of recovery for the overpayment, reconsideration of the fact of the overpayment, or a lesser rate of withholding of the overpayment. This is a correction notice: SSA published the incorrect burden information for this collection at 80 FR 43828, on 7/23/15. We are correcting this error here.

Type of Request: Revision of an OMB-approved information collection.

Modality of completion | Number of respondents | Frequency of response | Average burden per response (minutes) | Estimated total annual burden (hours)
SSA-3105 Paper form | 600,000 | 1 | 15 | 150,000
Debt Management System | 200,000 | 1 | 15 | 50,000
Totals | 800,000 |  |  | 200,000

Dated: October 8, 2015.
Naomi R. Sipple,
Reports Clearance Officer, Social Security Administration.

[FR Doc. 2015-26120 Filed 10-14-15; 8:45 am]

BILLING CODE 4191-02-P